Proclamation 10724 of March 29, 2024

Transgender Day of Visibility, 2024

By the President of the United States of America

A Proclamation

On Transgender Day of Visibility, we honor the extraordinary courage and contributions of transgender Americans and reaffirm our Nation's commitment to forming a more perfect Union—where all people are created equal and treated equally throughout their lives.

I am proud that my Administration has stood for justice from the start, working to ensure that the LGBTQI+ community can live openly, in safety, with dignity and respect. I am proud to have appointed transgender leaders to my Administration and to have ended the ban on transgender Americans serving openly in our military. I am proud to have signed historic Executive Orders that strengthen civil rights protections in housing, employment, health care, education, the justice system, and more. I am proud to have signed the Respect for Marriage Act into law, ensuring that every American can marry the person they love.

Transgender Americans are part of the fabric of our Nation. Whether serving their communities or in the military, raising families or running businesses, they help America thrive. They deserve, and are entitled to, the same rights and freedoms as every other American, including the most fundamental freedom to be their true selves. But extremists are proposing hundreds of hateful laws that target and terrify transgender kids and their families—silencing teachers; banning books; and even threatening parents, doctors, and nurses with prison for helping parents get care for their children. These bills attack our most basic American values: the freedom to be yourself, the freedom to make your own health care decisions, and even the right to raise your own child. It is no surprise that the bullying and discrimination that transgender Americans face is worsening our Nation's mental health crisis, leading half of transgender youth to consider suicide in the past year. At the same time, an epidemic of violence against transgender women and girls, especially women and girls of color, continues to take too many lives. Let me be clear: All of these attacks are un-American and must end. No one should have to be brave just to be themselves.

At the same time, my Administration is working to stop the bullying and harassment of transgender children and their families. The Department of Justice has taken action to push back against extreme and un-American State laws targeting transgender youth and their families and the Department of Justice is partnering with law enforcement and community groups to combat hate and violence. My Administration is also providing dedicated emergency mental health support through our nationwide suicide and crisis lifeline—any LGBTQI+ young person in need can call “988” and press “3” to speak with a counselor trained to support them. We are making public services more accessible for transgender Americans, including with more inclusive passports and easier access to Social Security benefits. There is much more to do. I continue to call on the Congress to pass the Equality Act, to codify civil rights protections for all LGBTQI+ Americans.

Today, we send a message to all transgender Americans: You are loved. You are heard. You are understood. You belong. You are America, and my entire Administration and I have your back.

NOW, THEREFORE, I, JOSEPH R. BIDEN JR., President of the United States of America, by virtue of the authority vested in me by the Constitution and the laws of the United States, do hereby proclaim March 31, 2024, as Transgender Day of Visibility. I call upon all Americans to join us in lifting up the lives and voices of transgender people throughout our Nation and to work toward eliminating violence and discrimination based on gender identity.

IN WITNESS WHEREOF, I have hereunto set my hand this twenty-ninth day of March, in the year of our Lord two thousand twenty-four, and of the Independence of the United States of America the two hundred and forty-eighth.

[FR Doc. 2024-07197

Filed 4-2-24; 8:45 am]

Billing code 3395-F4-P